DEPARTMENT OF HOMELAND SECURITY

U.S. Customs and Border Protection

U.S. Customs and Border Protection 2017 West Coast Trade Symposium: “Looking Ahead Together: What's Next for Trade?”

AGENCY: U.S. Customs and Border Protection (CBP), Department of Homeland Security (DHS).

ACTION: Notice of trade symposium.

SUMMARY: This document announces that U.S. Customs and Border Protection (CBP) will convene the 2017 West Coast Trade Symposium in Scottsdale, Arizona, on Wednesday, May 24, 2017, and Thursday, May 25, 2017. The 2017 West Coast Trade Symposium will feature panel discussions involving agency personnel, members of the trade community, and other government agencies, on the agency's role in international trade initiatives and programs. Members of the international trade and transportation communities and other interested parties are encouraged to attend.

DATES: Wednesday, May 24, 2017 (opening remarks and general sessions, 8:00 a.m.-4:45 p.m. MST), and Thursday, May 25, 2017 (break-out sessions, 8:00 a.m.-1:00 p.m. MST).

ADDRESSES: The CBP 2017 West Coast Trade Symposium will be held at the Double Tree Resort at 5401 North Scottsdale Road, Scottsdale, AZ 85250.

FOR FURTHER INFORMATION CONTACT: The Office of Trade Relations at (202) 344-1440, or at tradeevents@dhs.gov. To obtain the latest information on the Trade Symposium and to register online, visit the CBP Web site at http://www.cbp.gov/trade/stakeholder-engagement/trade-symposium. Requests for special needs should be sent to the Office of Trade Relations at tradeevents@dhs.gov.

SUPPLEMENTARY INFORMATION: This document announces that CBP will convene the 2017 West Coast Trade Symposium on Wednesday, May 24, 2017, and Thursday, May 25, 2017 in Scottsdale, AZ. The theme for the 2017 West Coast Trade Symposium will be “Looking Ahead Together: What's Next for Trade?” The format of the 2017 West Coast Trade Symposium will be held with general sessions on the first day and breakout sessions on the second day. Discussions will be held regarding CBP's role in international trade initiatives and partnerships.

The agenda for the 2017 West Coast Trade Symposium can be found on the CBP Web site (http://www.cbp.gov/trade/stakeholder-engagement/trade-symposium). Registration will be open from March 22 to May 11, 2017. The registration fee is $161.00 per person. Interested parties are requested to register immediately, as space is limited. All registrations must be made online at the CBP Web site (http://www.cbp.gov/trade/stakeholder-engagement/trade-symposium) and will be confirmed with payment by credit card only.

Hotel accommodations have been made at the Double Tree Resort at 5401 North Scottsdale Road, Scottsdale, AZ 85250. Hotel room block reservation information can be found on the CBP Web site (http://www.cbp.gov/trade/stakeholder-engagement/trade-symposium).

Dated: April 4, 2017.
Valarie M. Neuhart,
Acting Director, Office of Trade Relations,Office of the Commissioner, U.S. Customs and Border Protection.

[FR Doc. 2017-06990 Filed 4-6-17; 8:45 am]

BILLING CODE 9111-14-P